OFFICE OF GOVERNMENT ETHICS

Solicitation of Input From Stakeholders Regarding the U.S. Office of Government Ethics Strategic Plan(FY 2026-2030)

AGENCY: Office of Government Ethics (OGE).

ACTION: Notice of request for public comment and public meeting.

SUMMARY: The U.S. Office of Government Ethics (OGE) seeks input on its draft 2026-2030 Strategic Plan (Plan).

DATES:

Public Meeting Date: The public meeting will be held on the following date.

• July 23, 2025, from 2 p.m. to 4 p.m., Eastern time.

Information on how to register for the public meetings may be found in the SUPPLEMENTARY INFORMATION section of this notice.

Written Comment Period Date: Written comments are invited and must be received on or before July 25, 2025. Information on how to submit a written comment may be found in the SUPPLEMENTARY INFORMATION section of this notice.

ADDRESSES: The public meeting will be held virtually.

FOR FURTHER INFORMATION CONTACT: Nicole Stein, Office of Government Ethics, Suite 750, 250 E Street SW, Washington, DC 20024; Telephone: (202) 482-9300; TTY: (800) 877-8339.

SUPPLEMENTARY INFORMATION: The U.S. Office of Government Ethics (OGE) seeks input on its draft 2026-2030 Strategic Plan (Plan). The draft plan is available to review at https://www.oge.gov/Web/OGE.nsf/0/BDAA4F60ABB4BFD885258CB90053B443/$FILE/U.S.%20OGE_Strategic%20Plan%20Outline_OMB%20Comments%20(External%20Feedback).pdf

Registration: Individuals must register electronically through this link: https://events.gcc.teams.microsoft.com/event/0d4c342d-a714-49a4-9162-ada0ae2b33f8@c0abca44-0182-40a9-8010-01ec94254f77.

Written Comments: Written comments are invited and must be received on or before July 25, 2025. Comments will be accepted by any of the following methods:

(1) Email: OGEStrategicPlan@oge.gov.

(2) Mail: Office of Government Ethics, Suite 750, 250 E Street SW, Washington, DC 20024, Attention: “OGE Strategic Plan.”

All comments, including attachments and other supporting materials, will become part of the public record and subject to public disclosure. Comments may be posted on OGE's website, www.oge.gov. Sensitive personal information, such as account numbers or Social Security numbers, should not be included. Comments generally will not be edited to remove any identifying or contact information.

(Authority: Office of Management and Budget Circular No. A-11 (July 2024).)

Approved: July 8, 2025.
Shelley K. Finlayson,
Chief of Staff and Program Counsel, U.S. Office of Government Ethics.

[FR Doc. 2025-12882 Filed 7-10-25; 8:45 am]

BILLING CODE 6345-02-P